DEPARTMENT OF HOMELAND SECURITY

Federal Emergency Management Agency

[Docket ID: FEMA-2009-0001]

Agency Information Collection Activities: Proposed Collection; Comment Request, OMB No. 1660-NEW

AGENCY: Federal Emergency Management Agency, DHS.

ACTION: Notice; 60-day notice and request for comments; new information collection; OMB No. 1660-NEW; FEMA Form 111, Radiological Emergency Preparedness Program Alert and Notification Phone Survey.

SUMMARY: The Federal Emergency Management Agency (FEMA), as part of its continuing effort to reduce paperwork and respondent burden, invites the general public and other Federal agencies to take this opportunity to comment on a proposed new information collection. In accordance with the Paperwork Reduction Act of 1995, this Notice seeks comments concerning a collection of information that will occur after activation of a commercial nuclear power plant's alert and notification system. FEMA will conduct a telephone survey of a sample of residents within that plant's 10-mile Emergency Planning Zone (EPZ) following the alert.

DATES: Comments must be submitted on or before January 5, 2010.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Russ Gates, Engineer, Radiological Emergency Preparedness Program, Technological Hazards Division, National Preparedness Directorate, FEMA at (703) 605-1535 for additional information. You may contact the Records Management Branch for copies of the proposed collection of information at facsimile number (202) 646-3347 or e-mail address: FEMA-Information-Collections@dhs.gov.

SUPPLEMENTARY INFORMATION: Title 44 CFR part 350 creates the framework by which FEMA evaluates and approves State and local emergency plans and preparedness. This telephone survey collection, as part of the Alert and Notification (A&N) System review for all commercial nuclear power plant facilities in the United States, is used by FEMA to confirm that: (1) The siren operability standard of 90% (required in FEMA-REP-10) has been achieved based on the most recent 12 months of test results before the system is approved; (2) alert and notification system testing results have been completed in accordance with approved procedures; and, (3) that the siren operability remains at or above 90% (part of the periodic requirements stipulated in GM PR-1). Telephone surveys are used periodically during scheduled radiological emergency preparedness exercises to estimate the proportion of households within the 10-mile EPZ alerted by a nuclear power plant's alert and notification system.

Collection of Information

Title: Radiological Emergency Preparedness Program Alert and Notification Phone Survey.

Type of Information Collection: New information collection.

OMB Number: OMB No. 1660-NEW.

Form Titles and Numbers: FEMA Form 111, Radiological Emergency Preparedness Program Alert and Notification Phone Survey.

Abstract: Immediately following activation of a commercial nuclear power plant's alert and notification system, FEMA will conduct a telephone survey of a sample of residents within that plant's Emergency Planning Zone.

Affected Public: Individuals or households.

Estimated Total Annual Burden Hours: 338 hours.

Annual Hour Burden
Data collection activity/instrument | Number of respondents | Frequency of responses | Hour burden per response | Annual responses | Total annual burden hours
| (A) | (B) | (C) | (D) = (A × B) | (C × D)
FEMA Form 111, FEMA Nuclear Power Plant Alerting And Notification System: Public Telephone Survey | 338 | 1 | 10 minutes (0.1667 hours) | 338 | 56
Total | 338 |  |  | 338 | 56

Estimated Cost: None.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-26815 Filed 11-5-09; 8:45 am]

BILLING CODE 9111-46-P